DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of September 29, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: September 27, 2017.
Roy E. Wright,
Deputy Associate Administrator for Insurance and Mitigation, Department of Homeland Security, Federal Emergency Management Agency.

I. Watershed-based studies:

Community | Community map repository address
Brandywine-Christina Watershed | Chester County, Pennsylvania (All Jurisdictions) | Docket No.: FEMA-B-1613
Borough of Atglen | Borough Office, 120 West Main Street, Atglen, PA 19310.
Borough of Avondale | Borough Office Building, 110 Pomeroy Avenue, Avondale, PA 19311.
Borough of Downingtown | Municipal Government Center, 4-10 West Lancaster Avenue, Downingtown, PA 19335.
Borough of Kennett Square | Borough Hall, 120 Marshall Street, Kennett Square, PA 19348.
Borough of Modena | Borough Hall, 5 Woodland Avenue, Modena, PA 19358.
Borough of Parkesburg | Borough Hall, Building 1, 315 West 1st Avenue, Parkesburg, PA 19365.
Borough of South Coatesville | Borough Hall, 136 Modena Road, South Coatesville, PA 19320.
Borough of West Chester | Municipal Building, 401 East Gay Street, West Chester, PA 19380.
Borough of West Grove | Municipal Building, 117 Rosehill Avenue, 2nd Floor, West Grove, PA 19390.
City of Coatesville | City Hall, 1 City Hall Place, Coatesville, PA 19320.
Township of Birmingham | Birmingham Township Office, 1040 West Street Road, West Chester, PA 19382.
Township of Caln | Caln Township Municipal Building, 253 Municipal Drive, Thorndale, PA 19372.
Township of East Bradford | East Bradford Township Hall, 666 Copeland School Road, West Chester, PA 19380.
Township of East Brandywine | East Brandywine Township Office, 1214 Horseshoe Pike, Downingtown, PA 19335.
Township of East Caln | East Caln Township Municipal Building, 110 Bell Tavern Road, Downingtown, PA 19335.
Township of East Fallowfield | Township Building, 2264 Strasburg Road, East Fallowfield, PA 19320.
Township of East Marlborough | East Marlborough Township Office, 721 Unionville Road, Kennett Square, PA 19348.
Township of East Whiteland | East Whiteland Township Building, 209 Conestoga Road, Frazer, PA 19355.
Township of Franklin | Franklin Township Building, 20 Municipal Lane, Landenberg, PA 19350.
Township of Highland | Highland Township Municipal Building, 100 Five Point Road, Coatesville, PA 19320.
Township of Honey Brook | Township Administration Office, 500 Suplee Road, Honey Brook, PA 19344.
Township of Kennett | Kennett Township Municipal Building, 801 Burrows Run Road, Chadds Ford, PA 19317.
Township of London Grove | London Grove Township Office, 372 Rose Hill Road, Suite 100, West Grove, PA 19390.
Township of Londonderry | Londonderry Municipal Office Building, 103 Daleville Road, Cochranville, PA 19330.
Township of Lower Oxford | Lower Oxford Township Municipal Office, 220 Township Road, Oxford, PA 19363.
Township of New Garden | New Garden Township Administrative Building, 299 Starr Road, Landenberg, PA 19350.
Township of Newlin | Newlin Township Office, Maintenance Garage, 1751 Embreeville Road, Coatesville, PA 19320.
Township of Penn | Penn Township Building, 260 Lewis Road, West Grove, PA 19390.
Township of Pennsbury | Pennsbury Township Municipal Building, 702 Baltimore Pike, Chadds Ford, PA 19317.
Township of Pocopson | Pocopson Township Administration Building, 740 Denton Hollow Road, West Chester, PA 19382.
Township of Sadsbury | Sadsbury Township Municipal Building, 2920 Lincoln Highway, Sadsburyville, PA 19369.
Township of Thornbury | Thornbury Township Municipal Building, 8 Township Drive, Cheyney, PA 19319.
Township of Upper Oxford | Upper Oxford Township Building, 1185 Limestone Road, Oxford, PA 19363.
Township of Upper Uwchlan | Upper Uwchlan Township Office, 140 Pottstown Pike, Chester Springs, PA 19425.
Township of Uwchlan | Uwchlan Township Administration Building, Zoning Department, 715 North Ship Road, Exton, PA 19341.
Township of Valley | Valley Township Municipal Building, 890 West Lincoln Highway, Coatesville, PA 19320.
Township of Wallace | Wallace Township Municipal Building, 1250 Creek Road, Glenmoore, PA 19343.
Township of West Bradford | West Bradford Township Building, 1385 Campus Drive, 1st Floor, Downingtown, PA 19335.
Township of West Brandywine | Township Building, 198 Lafayette Road, Upper Level, West Brandywine, PA 19320.
Township of West Caln | West Caln Township Municipal Building, 721 West Kings Highway, Wagontown, PA 19376.
Township of West Fallowfield | West Fallowfield Township Office, 3095 Limestone Road, Suite 1, Cochranville, PA 19330.
Township of West Goshen | West Goshen Township Office, 1025 Paoli Pike, West Chester, PA 19380.
Township of West Marlborough | West Marlborough Township Building, 1300 Doe Run Road, Coatesville, PA 19320.
Township of West Nantmeal | West Nantmeal Township Municipal Building, 455 North Manor Road, Elverson, PA 19520.
Township of West Nottingham | West Nottingham Township Municipal Building, 100 Park Road, Nottingham, PA 19362.
Township of West Sadsbury | West Sadsbury Township Municipal Building, 6400 North Moscow Road, Parkesburg, PA 19365.
Township of West Whiteland | West Whiteland Township Building, Zoning Department, 101 Commerce Drive, Exton, PA 19341.

II. Non-watershed-based studies:

II. Non-watershed-based studies:
Community | Community map repository address
Volusia County, Florida and Incorporated Areas
Docket No.: FEMA-B-1617
City of Daytona Beach | City Hall, 301 South Ridgewood Avenue, Daytona Beach, FL 32114.
City of Daytona Beach Shores | City Hall, 2990 South Atlantic Avenue, Daytona Beach Shores, FL 32118.
City of Deltona | Department of Development Services, 2345 Providence Boulevard, Deltona, FL 32725.
City of Edgewater | Building and Planning Department, 104 North Riverside Drive, Edgewater, FL 32132.
City of Flagler Beach | City Hall, 105 South 2nd Street, Flagler Beach, FL 32136.
City of Holly Hill | City Hall, City Planner's Office, 1065 Ridgewood Avenue, Holly Hill, FL 32117.
City of New Smyrna Beach | City Hall, 210 Sams Avenue, New Smyrna Beach, FL 32168.
City of Oak Hill | City Hall, 234 South US Highway 1, Oak Hill, FL 32759.
City of Ormond Beach | City Hall, City Manager's Office, 22 South Beach Street, Ormond Beach, FL 32174.
City of Port Orange | City Hall, 1000 City Center Circle, Port Orange, FL 32129.
City of South Daytona | City Hall, 1672 South Ridgewood Avenue, South Daytona, FL 32119.
Town of Ponce Inlet | Town Hall, 4300 South Atlantic Avenue, Ponce Inlet, FL 32127.
Unincorporated Areas of Volusia County | Volusia County Office of Growth Management, 123 West Indiana Avenue, DeLand, FL 32720.
Henderson County, Kentucky and Incorporated Areas
Docket No.: FEMA-B-1603
City of Henderson | City Hall, 222 1st Street, Henderson, KY 42420.
Unincorporated Areas of Henderson County | Henderson County Courthouse, 20 North Main Street, Henderson, KY 42420.

[FR Doc. 2017-22025 Filed 10-11-17; 8:45 am]

BILLING CODE 9110-12-P